DEPARTMENT OF ENERGY

Basic Energy Sciences Advisory Committee

AGENCY: Department of Energy.

ACTION: Notice of open meeting.

SUMMARY: This notice announces a meeting of the Basic Energy Sciences Advisory Committee (BESAC). Federal Advisory Committee Act (Pub. L. 92-463, 86 Stat. 770) requires that public notice of these meetings be announced in the Federal Register.

DATES: Thursday, November 20, 2008, 1 p.m. to 5 p.m., and Friday, November 21, 2008, 8:30 a.m. to 5 p.m.

ADDRESSES: Hilton Washington DC North/Gaithersburg; 620 Perry Parkway, Gaithersburg, MD 20877; 301-977-8900.

FOR FURTHER INFORMATION CONTACT: Karen Talamini; Office of Basic Energy Sciences; U. S. Department of Energy; Germantown Building, Independence Avenue, Washington, DC 20585; Telephone: (301) 903-4563.

SUPPLEMENTARY INFORMATION: Purpose of the Meeting: The purpose of this meeting is to provide advice and guidance with respect to the basic energy sciences research program.

Tentative Agenda: Agenda will include discussions of the following:

• News from Office of Science/DOE.

• News from the Office of Basic Energy Sciences.

• Report from the New Era Subcommittee's Photon Workshop.

• Report from the New Era Subcommittee.

Public Participation: The meeting is open to the public. If you would like to file a written statement with the Committee, you may do so either before or after the meeting. If you would like to make oral statements regarding any of the items on the agenda, you should contact Karen Talamini at 301-903-6594 (fax) or karen.talamini@science.doe.gov (e-mail). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying at the Freedom of Information Public Reading Room; 1E-190, Forrestal Building; 1000 Independence Avenue, SW.; Washington, DC 20585; between 9 a.m. and 4 p.m., Monday through Friday, except holidays.

Issued in Washington, DC, on October 29, 2008.
Rachel Samuel,
Deputy Committee Management Officer.

[FR Doc. E8-26251 Filed 11-3-08; 8:45 am]

BILLING CODE 6450-01-P